SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: February 1-29, 2016.

ADDRESSES: Susquehanna River Basin Commission, 4423 North Front Street, Harrisburg, PA 17110-1788.

FOR FURTHER INFORMATION CONTACT: Jason E. Oyler, General Counsel, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR 806.22(e) and (f) for the time period specified above:

Approvals By Rule Issued Under 18 CFR 806.22(e):

1. Church & Dwight Co., Inc., Davies Facility, ABR-20090301.1, Jackson Township, York County, Pa.; Consumptive Use of Up to 0.9999 mgd; Approval Date: February 23, 2016.

Approvals By Rule Issued Under 18 CFR 806.22(f):

1. EQT Production Company, Pad ID: Gobbler, ABR-201107039.R1, Huston Township, Clearfield County, Pa.; Consumptive Use of Up to 3.0000 mgd; Approval Date: February 1, 2016.

2. Anadarko E&P Onshore LLC, Pad ID: COP Tr 728 D, ABR-201104001.R1, Cummings Township, Lycoming County, Pa.; Consumptive Use of Up to 4.0000 mgd; Approval Date: February 8, 2016.

3. Anadarko E&P Onshore LLC, Pad ID: COP Tr 728 C, ABR-201104004.R1, Watson Township, Lycoming County, Pa.; Consumptive Use of Up to 4.0000 mgd; Approval Date: February 8, 2016.

4. Range Resources—Appalachia, LLC, Pad ID: Red Bend Hunting & Fishing Club Unit #3H-#5H Drilling Pad, ABR-201011067.R1, Cogan House Township, Lycoming County, Pa.; Consumptive Use of Up to 5.0000 mgd; Approval Date: February 8, 2016.

5. Range Resources—Appalachia, LLC, Pad ID: Ogontz Fishing Club #18H-#23H Drilling Pad, ABR-201011073.R1, Cummings Township, Lycoming County, Pa.; Consumptive Use of Up to 5.0000 mgd; Approval Date: February 8, 2016.

6. Range Resources—Appalachia, LLC, Pad ID: Paulhamus, Frederick Unit #5H & #6H Drilling Pad, ABR-201011074.R1, Mifflin Township, Lycoming County, Pa.; Consumptive Use of Up to 5.0000 mgd; Approval Date: February 8, 2016.

7. Range Resources—Appalachia, LLC, Pad ID: Ogontz Fishing Club #24H-#29H Drilling Pad, ABR-201011077.R1, Cummings Township, Lycoming County, Pa.; Consumptive Use of Up to 5.0000 mgd; Approval Date: February 8, 2016.

8. Range Resources—Appalachia, LLC, Pad ID: Fuller, Eugene Unit #1H-#3H Drilling Pad, ABR-201012004.R1, Mifflin Township, Lycoming County, Pa.; Consumptive Use of Up to 5.0000 mgd; Approval Date: February 8, 2016.

9. Range Resources—Appalachia, LLC, Pad ID: Ogontz Fishing Club #30H-#35H, ABR-201012043.R1, Cummings Township, Lycoming County, Pa.; Consumptive Use of Up to 5.0000 mgd; Approval Date: February 8, 2016.

10. Range Resources—Appalachia, LLC, Pad ID: Winner Unit #2H-#5H Drilling Pad, ABR-201012050.R1, Gallagher Township, Clinton County, Pa.; Consumptive Use of Up to 5.0000 mgd; Approval Date: February 8, 2016.

11. Range Resources—Appalachia, LLC, Pad ID: Goodwill Hunting Club Unit #4H-#9H Drilling Pad, ABR-201011054.R1, Lewis Township, Lycoming County, Pa.; Consumptive Use of Up to 5.0000 mgd; Approval Date: February 8, 2016.

12. SWEPI LP, Pad ID: Knowlton 303, ABR-201101007.R1, Charleston Township, Tioga County, Pa.; Consumptive Use of Up to 4.0000 mgd; Approval Date: February 8, 2016.

13. SWEPI LP, Pad ID: Stratton 885, ABR-201101008.R1, Farmington Township, Tioga County, Pa.; Consumptive Use of Up to 4.0000 mgd; Approval Date: February 8, 2016.

14. SWEPI LP, Pad ID: Bielski 628, ABR-201101009.R1, Richmond Township, Tioga County, Pa.; Consumptive Use of Up to 4.0000 mgd; Approval Date: February 8, 2016.

15. SWN Production Company, LLC, Pad ID: TI-24 Long Run Timber B Pad, ABR-201602001, Morris Township, Tioga County, Pa.; Consumptive Use of Up to 4.9990 mgd; Approval Date: February 8, 2016.

16. SWEPI LP, Pad ID: Baker 1105, ABR-201101011.R1, Deerfield Township, Tioga County, Pa.; Consumptive Use of Up to 4.0000 mgd; Approval Date: February 9, 2016.

17. Chesapeake Appalachia, LLC, Pad ID: J & J, ABR-201106015.R1, Smithfield Township, Bradford County, Pa.; Consumptive Use of Up to 7.5000 mgd; Approval Date: February 10, 2016.

18. Chesapeake Appalachia, LLC, Pad ID: Nichols, ABR-201106024.R1, Smithfield Township, Bradford County, Pa.; Consumptive Use of Up to 7.5000 mgd; Approval Date: February 10, 2016.

19. Pennsylvania General Energy Company, LLC, Pad ID: COP Tract 293 Pad F, ABR-201105001.R1, Cummings Township, Lycoming County, Pa.; Consumptive Use of Up to 3.0000 mgd; Approval Date: February 10, 2016.

20. Seneca Resources Corporation, Pad ID: DCNR 595 PAD C, ABR-201103047.R1, Bloss Township, Tioga County, Pa.; Consumptive Use of Up to 4.0000 mgd; Approval Date: February 10, 2016.

21. SWEPI LP, Pad ID: Violet Bieser Revocable Living Trust 833, ABR-201101010.R1, Chatham Township, Tioga County, Pa.; Consumptive Use of Up to 4.0000 mgd; Approval Date: February 10, 2016.

22. Talisman Energy USA Inc., Pad ID: 05 081 Uhouse D, ABR-201102008.R1, Orwell Township, Bradford County, Pa.; Consumptive Use of Up to 6.0000 mgd; Approval Date: February 10, 2016.

23. Chesapeake Appalachia, LLC, Pad ID: Oilcan, ABR-201107037.R1, Overton Township, Bradford County, Pa.; Consumptive Use of Up to 7.5000 mgd; Approval Date: February 12, 2016.

24. Chesapeake Appalachia, LLC, Pad ID: Burns, ABR-201107038.R1, Ulster Township, Bradford County, Pa.; Consumptive Use of Up to 7.5000 mgd; Approval Date: February 12, 2016.

25. Chesapeake Appalachia, LLC, Pad ID: Paul, ABR-201107048.R1, Ulster Township, Bradford County, Pa.; Consumptive Use of Up to 7.5000 mgd; Approval Date: February 12, 2016.

26. SWEPI LP, Pad ID: Kalke 819, ABR-201009042.R1, Chatham Township, Tioga County, Pa.; Consumptive Use of Up to 4.0000 mgd; Approval Date: February 17, 2016.

27. WPX Energy Appalachia LLC, Pad ID: Resource Recovery Well Pad 1, ABR-201010059.R1, Snow Shoe Township, Centre County, Pa.; Consumptive Use of Up to 4.0000 mgd; Approval Date: February 17, 2016.

28. WPX Energy Appalachia LLC, Pad ID: Resource Recovery Well Pad 2, ABR-201011012.R1, Snow Shoe Township, Centre County, Pa.; Consumptive Use of Up to 4.0000 mgd; Approval Date: February 17, 2016.

29. WPX Energy Appalachia LLC, Pad ID: Resource Recovery Well Pad 3, ABR-201010060.R1, Snow Shoe Township, Centre County, Pa.; Consumptive Use of Up to 4.0000 mgd; Approval Date: February 17, 2016.

30. Chesapeake Appalachia, LLC, Pad ID: Sophia, ABR-201106005.R1, Smithfield and Springfield Townships, Bradford County, Pa.; Consumptive Use of Up to 7.5000 mgd; Approval Date: February 22, 2016.

31. Chesapeake Appalachia, LLC, Pad ID: GB, ABR-201106007.R1, Rush Township, Susquehanna County, Pa.; Consumptive Use of Up to 7.5000 mgd; Approval Date: February 22, 2016.

32. Chesapeake Appalachia, LLC, Pad ID: Neal, ABR-201106010.R1, Leroy Township, Bradford County, Pa.; Consumptive Use of Up to 7.5000 mgd; Approval Date: February 22, 2016.

33. Chesapeake Appalachia, LLC, Pad ID: Mel, ABR-201106012.R1, Franklin Township, Bradford County, Pa.; Consumptive Use of Up to 7.5000 mgd; Approval Date: February 22, 2016.

34. Chesapeake Appalachia, LLC, Pad ID: Knickerbocker, ABR-201106013.R1, Franklin Township, Bradford County, Pa.; Consumptive Use of Up to 7.5000 mgd; Approval Date: February 22, 2016.

35. Chesapeake Appalachia, LLC, Pad ID: IH, ABR-201106014.R1, Stevens Township, Bradford County, Pa.; Consumptive Use of Up to 7.5000 mgd; Approval Date: February 22, 2016.

36. Chesapeake Appalachia, LLC, Pad ID: Wootten, ABR-201106016.R1, Mehoopany Township, Wyoming County, Pa.; Consumptive Use of Up to 7.5000 mgd; Approval Date: February 22, 2016.

37. Chesapeake Appalachia, LLC, Pad ID: Lambs Farm, ABR-201106023.R1, Smithfield Township, Bradford County, Pa.; Consumptive Use of Up to 7.5000 mgd; Approval Date: February 22, 2016.

38. SWEPI LP, Pad ID: Parent 749, ABR-201012054.R1, Canton Township, Bradford County, Pa.; Consumptive Use of Up to 4.0000 mgd; Approval Date: February 22, 2016.

39. Talisman Energy USA Inc., Pad ID: 05 178 Peck Hill Farm, ABR-201101019.R1, Windham Township, Bradford County, Pa.; Consumptive Use of Up to 6.0000 mgd; Approval Date: February 22, 2016.

40. XTO Energy Incorporated, Pad ID: Buck Unit A, ABR-201107041.R1, Penn Township, Lycoming County, Pa.; Consumptive Use of Up to 4.0000 mgd; Approval Date: February 22, 2016.

41. XTO Energy Incorporated, Pad ID: TLT Unit A, ABR-201107017.R1, Jordan Township, Lycoming County, Pa.; Consumptive Use of Up to 4.0000 mgd; Approval Date: February 22, 2016.

42. Chesapeake Appalachia, LLC, Pad ID: Quail, ABR-201106018.R1, Fox Township, Sullivan County, Pa.; Consumptive Use of Up to 7.5000 mgd; Approval Date: February 23, 2016.

43. Warren Marcellus LLC, Pad ID: Johnston 1 Pad, ABR-201106009.R1, Meshoppen Township, Wyoming County, Pa.; Consumptive Use of Up to 5.0000 mgd; Approval Date: February 26, 2016.

44. SWN Production Company, LLC, Pad ID: Longacre Pad, ABR-201101029.R1, Jackson Township, Susquehanna County, Pa.; Consumptive Use of Up to 4.9900 mgd; Approval Date: February 29, 2016.

45. SWN Production Company, LLC, Pad ID: Gerfin Pad, ABR-201102022.R1, Lenox Township, Susquehanna County, Pa.; Consumptive Use of Up to 4.9900 mgd; Approval Date: February 29, 2016.

46. SWN Production Company, LLC, Pad ID: Herman Well Pad, ABR-201102035.R1, Franklin Township, Susquehanna County, Pa.; Consumptive Use of Up to 4.0000 mgd; Approval Date: February 29, 2016.

47. SWN Production Company, LLC, Pad ID: Demento Pad, ABR-201102036.R1, Stevens Township, Bradford County, Pa.; Consumptive Use of Up to 4.9900 mgd; Approval Date: February 29, 2016.

48. SWN Production Company, LLC, Pad ID: Ransom Pad, ABR-201103007.R1, Lenox Township, Susquehanna County, Pa.; Consumptive Use of Up to 4.9900 mgd; Approval Date: February 29, 2016.

Authority: Pub. L. 91-575, 84 Stat. 1509 et seq., 18 CFR parts 806, 807, and 808.

Dated: March 18, 2016.
Stephanie L. Richardson,
Secretary to the Commission.

[FR Doc. 2016-06594 Filed 3-23-16; 8:45 am]

BILLING CODE 7040-01-P